DEPARTMENT OF HOMELAND SECURITY

[Docket No. DHS-2012-0043]

Agency Information Collection Activities: Submission for Review; Information Collection Extension Request for the Support Anti-Terrorism by Fostering Effective Technologies (SAFETY) Act Program

AGENCY: Science and Technology Directorate, DHS.

ACTION: 60-day notice and request for comment.

SUMMARY: The Department of Homeland Security (DHS) is soliciting public comment on the following forms: (1) Registration as a Seller of an Anti-Terrorism Technology (DHS Form 10010); (2) Request for a Pre-Application Consultation (DHS Form 10009); (3) Notice of License of Qualified Anti-Terrorism Technology (DHS Form 10003); (4) Notice of Modification of Qualified Anti-Terrorism Technology (DHS Form 10002); (5) Application for Transfer of SAFETY Act Designation and Certification (DHS Form 10001); (6) Application for Renewal Of SAFETY Act Protections of a Qualified Anti-Terrorism Technology (DHS Form 10057); (7) Application for SAFETY Act Developmental Testing and Evaluation Designation (DHS Form 10006); (8) Application for SAFETY Act Designation (DHS Form 10008); (9) Application for SAFETY Act Certification (DHS Form 10007); (10) SAFETY Act Block Designation Application (DHS Form 10005); and (11) SAFETY Act Block Certification Application (DHS Form 10004).

DATES: Comments are encouraged and will be accepted until December 3, 2012.

ADDRESSES: You may submit comments, identified by docket number DHS-2012-0043, by one of the following methods:

• Federal eRulemaking Portal: http://www.regulations.gov. Please follow the instructions for submitting comments.

• Email: douglas.m.smith@hq.dhs.gov. Please include docket number DHS-2012-0043 in the subject line of the message.

• Mail: Science and Technology Directorate, ATTN: SAFETY Act, 245 Murray Lane SW., Mail Stop 0202, Washington, DC 20528.

FOR FURTHER INFORMATION CONTACT: douglas.m.smith@hq.dhs.gov (202) 254-5604 (Not a toll free number).

SUPPLEMENTARY INFORMATION: DHS S&T provides a secure Web site, accessible through www.SAFETYAct.gov, through which the public can learn about the program, submit applications for SAFETY Act protections, submit questions to the Office of SAFETY Act Implementation (OSAI), and provide feedback. The data collection forms have standardized the collection of information that is both necessary and essential for the DHS OSAI.

The SAFETY Act program promotes the development and use of anti-terrorism technologies that will enhance the protection of the nation and provides risk management and litigation management protections for sellers of Qualified Anti-Terrorism Technology (QATT) and others in the supply and distribution chain. The Department of Homeland Security Science & Technology Directorate (DHS S&T) currently has approval to collect information for the implementation of the SAFETY Act program until March 31, 2013. With this notice, DHS S&T seeks approval to renew this information collection for continued use after this date. The SAFETY Act program requires the collection of this information in order to evaluate and qualify Anti-Terrorism Technologies, based on the economic and technical criteria contained in the Regulations Implementing the Support Anti-Terrorism by Fostering Effective Technologies Act (the Final Rule), for protection in accordance with the Act, and therefore encourage the development and deployment of new and innovative anti-terrorism products and services. The Support Anti-Terrorism by Fostering Effective Technologies (SAFETY) Act (6 U.S.C. .441) was enacted as part of the Homeland Security Act of 2002, Public Law 107-296 establishing this requirement. This notice and request for comments is required by the Paperwork Reduction Act of 1995 (Pub. L. 104-13, 44 U.S.C. chapter 35).

DHS S&T currently has approval to collect information utilizing the Registration of a Seller as an Anti-Terrorism Technology (DHS Form 10010), Request for a Pre-Application Consultation (DHS Form 10009), Notice of License of Qualified Anti-Terrorism Technology (DHS Form 10003), Notice of Modification of Qualified Anti-Terrorism Technology (DHS Form 10002), Application for Transfer of SAFETY Act Designation and Certification (DHS Form 10001), Application for Renewal Of SAFETY Act Protections of a Qualified Anti-Terrorism Technology (DHS Form 10057), Application for SAFETY Act Developmental Testing and Evaluation Designation (DHS Form 10006), Application for SAFETY Act Designation (DHS Form 10008), Application for SAFETY Act Certification (DHS Form 10007), SAFETY Act Block Designation Application (DHS Form 10005), SAFETY Act Block Certification Application (DHS Form 10004) until 31 March 2013 with OMB approval number 1640-0001.

The Department is committed to improving its information collection and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of Information Collection

(1) Type of Information Collection: Existing information collection.

(2) Title of the Form/Collection: SAFETY Act Program.

(3) Agency Form Number, if any, and the applicable component of the Department of Homeland Security sponsoring the collection: DHS Science & Technology Directorate, DHS Forms 10001, 10002, 10003, 10004, 10005, 10006, 10007, 10008, 10009, 10010, and 10057.

(4) Affected public who will be asked or required to respond, as well as a brief abstract: Business entities, Associations, and State, Local and Tribal Government entities. Applications are reviewed for benefits, technology/program evaluations, and regulatory compliance.

(5) An estimate of the total number of respondents and the amount of time estimated for an average respondent to respond:

a. Estimate of the total number of respondents: 950.

b. An estimate of the time for an average respondent to respond: 18.2 burden hours.

(6) An estimate of the total public burden (in hours) associated with the collection: 17,300 burden hours.

Dated: September 17, 2012.
Rick Stevens,
Chief Information Officer for Science and Technology.

[FR Doc. 2012-24199 Filed 10-1-12; 8:45 am]

BILLING CODE 9110-9F-P